DEPARTMENT OF TRANSPORTATION

Federal Highway Administration

Environmental Impact Statement; Maui, Hawaii

AGENCY: Federal Highway Administration (FHWA), Department of Transportation (DOT).

ACTION: Notice of intent to prepare an environmental impact statement.

SUMMARY: The FHWA, in coordination with the Hawaii Department of Transportation (HDOT), is issuing this notice to invite comment and advise the public that an Environmental Impact Statement (EIS) will be prepared to study potential improvements to the Honoapiilani Highway (State Route No. 30) between Ukumehame and Launiupoko in West Maui. Improvements are needed to provide a reliable transportation facility that would not be inundated by the predicted 3.2-foot sea level rise and undermined by coastal erosion. The FHWA, as the Federal lead agency, and HDOT as the project sponsor and joint lead agency, will prepare an EIS for the Honoapiilani Highway Improvements Project, Ukumehame to Launiupoko, covering the 6-mile segment between milepost 11 in the vicinity of Papalaua Wayside Park in Ukumehame (southeastern terminus) and milepost 17 in Launiupoko, where Honoapiilani Highway currently connects with the existing southern terminus of the Lahaina Bypass (northwestern terminus of the project).

DATES: Comments must be received by December 31, 2022. Written comments received by the submittal deadline will be published in the Draft EIS.

Public meetings will be held on December 14, 2022, and December 15, 2022. Meetings will be virtual and/or in-person. Please refer to the project website for meeting information. For public scoping information and requests, including special assistance requirements to participate fully in the meeting, please contact HDOT using the contact information in the FOR FURTHER INFORMATION CONTACT section below by December 7, 2022.

FOR FURTHER INFORMATION CONTACT: This NOI and Supplementary NOI Document are available on the project website: www.HonoapiilaniHwyImprovements.com.

Please refer to the website for the latest information about public meetings and to submit written comments and questions on the project's preliminary Purpose and Need, scope, design alternatives, and other details pertinent to the EIS, as described in this NOI.

In addition, comments and questions may also be submitted via the following methods:

Mail: Federal Highway Administration, Hawaii Division Attention: Richelle Takara, Division Administrator Box 50206, 300 Ala Moana Blvd., Room 3-229 Honolulu, HI 96850. Email: Richelle.Takara@dot.gov, Telephone: (808) 541-2700.

Mail: Hawaii Department of Transportation, Highways Division Attention: Genevieve Sullivan 869 Punchbowl Street, Room 301 Honolulu, HI 96813. Email: genevieve.h.sullivan@hawaii.gov, Telephone: (808) 587-1834.

Comments may also be offered during the public scoping meetings. Interested persons may request to be added to the project mailing list to receive notices of future project information. The Project website has a link to join the mailing list.

SUPPLEMENTARY INFORMATION:

The purpose of this Notice of Intent (NOI) is to:

1. Alert interested parties regarding the plan to prepare the EIS;

2. Provide information on the nature of the proposed project;

3. Invite participation in the EIS process, including comments on the Purpose and Need for the project and the scope of the EIS proposed in this notice; and

4. Announce public scoping meetings.

As public involvement is crucial to the success of transportation projects, the FHWA and HDOT will consider all comments received in response to this notice and make revisions as appropriate. The EIS will be prepared in accordance with the requirements of the National Environmental Policy Act (NEPA) of 1969, as amended (42 U.S.C. 4321, et seq.), 23 U.S.C. 139 regarding efficient environmental reviews for project decision making and One Federal Decision, CEQ regulations implementing NEPA (40 CFR parts 1500-1508), FHWA regulations implementing NEPA (23 CFR part 771), and all applicable Federal, State, and local laws and regulations.

1. Project History

On June 7, 2007, FHWA published a NOI for an EIS in the Federal Register (72 FR 31649) to realign Honoapiilani Highway in West Maui. Project objectives for that proposal, involving a longer 11-mile segment of Honoapiilani Highway, were to increase roadway capacity, safety, and reliability. In addition, the previous Federally funded proposal sought to address the eroding shoreline between Maalaea on the southern end of West Maui and Launiupoko. However, the EIS was never completed, and FHWA rescinded the NOI on June 5, 2020 (85 FR 34712), citing the difficult terrain and the estimated high project construction cost.

In contrast with that rescinded project, HDOT's current proposal is a more focused project to address a shorter, 6-mile segment of the highway, which does not include the areas of steep terrain that previously proved to be cost prohibitive. The currently proposed project has been awarded a United States Department of Transportation (U.S. DOT) Rebuilding American Infrastructure with Sustainability and Equity (RAISE) Grant to assist with funding. The RAISE Grant funding does not predetermine the alternative selection.

In addition to the standard cardinal direction terms north, south, east, and west, this NOI uses common local naming conventions such as mauka/makai (towards the mountains/ocean) which correspond to generally easterly/westerly directions in this project area, the pali (cliff, but also refers to a specific place of steep topography south of the project area), and West Maui place names, such as Lahaina (a town to the north of the project area). Additional project background, maps, and information to support the following NOI sections are provided in the Supplementary NOI Document.

2. Preliminary Purpose and Need

Public input received prior to developing this NOI supports the primary purpose of this project, which is to provide a reliable transportation facility in West Maui and improve Honoapiilani Highway's resilience by reducing the highway's vulnerability to coastal hazards. Specifically, the project is intended to address existing coastal erosion and flooding, as well as future coastal erosion and flooding caused by anticipated sea level rise, as delineated by the Hawaii Climate Change Mitigation and Adaptation Commission (HCCC)'s Sea Level Rise Exposure Area (SLR-XA), along the stretch of highway from Ukumehame to Launiupoko, approximately milepost 11 to milepost 17. Areas within the SLR-XA boundary, including Honoapiilani Highway, are considered exposed and potentially vulnerable to sea level rise. The 3.2-foot SLR-XA encroaches on roughly four (4) miles out of the six (6) miles of the existing highway in the project area. Therefore, the primary purpose of the project is to reduce the highway's exposure to the SLR-XA, where feasible. Secondary objectives include: (1) Provide Regional Transportation System Linkages that Support the Safe Movement of People and Goods, and (2) Conform with Regional Land Use and Transportation Plans. The project preliminary Purpose and Need, along with secondary objectives, and the range of reasonable alternatives may be modified, based on public input and interagency coordination during the NEPA review.

Highway service disruptions are expected to increase as the frequency and magnitude of flood occurrences are exacerbated by climate change and sea level rise. HCCC's SLR-XA boundary delineates the statewide footprint where passive flooding, annual high wave flooding, and coastal erosion has been modeled for the 0.5-foot, 1.1-foot, 2.0-foot, and 3.2-foot sea level rise (SLR) scenarios for the year 2100. Any references to the SLR-XA boundary throughout project documentation assumes the 3.2-foot SLR scenario unless otherwise noted. Areas and assets, including Honoapiilani Highway, within the SLR-XA boundary are considered exposed and potentially vulnerable to SLR. Therefore, the primary purpose of the project is to avoid the SLR-XA where feasible. The FHWA and HDOT will determine feasibility by considering basic design and engineering limitations as described in the Alternatives Screening Criteria section of the Supplementary NOI Document. Where highway improvements cannot be conducted entirely beyond the SLR-XA, HDOT may seek design solutions to elevate the highway by a height to be determined by technical evaluations conducted as part of this NEPA review.

Although we know that Honoapiilani Highway is vulnerable to flooding and coastal erosion, there may be other reasons to improve road conditions. Agencies and the public are invited to comment on the Purpose and Need. The FHWA and HDOT will finalize the Purpose and Need after the public scoping review period is complete. The Draft EIS will present supporting documentation for the finalized Purpose and Need. Please see the scoping comment period deadline in the DATES section of this NOI.

3. Preliminary Description of Project Alternatives

The proposed action is anticipated to include improvements to Honoapiilani Highway for six (6) miles from Papalaua Wayside Park in Ukumehame to the Lahaina Bypass in Launiupoko. Alternatives include the No-Build Alternative and multiple Build Alternatives. The Supplementary NOI Document describes alternatives screening or evaluation criteria, which will be used to filter and prioritize a reasonable number of Build Alternatives to analyze in the Draft EIS. Agencies and the public are invited to comment on the project alternatives and screening criteria. The FHWA and HDOT may modify project alternatives and screening or evaluation criteria based on public scoping input received during the comment period associated with this notice. See below for the range of alternatives currently under consideration.

Build Alternatives

The proposed Build Alternatives are based on alternatives that were proposed in the Maui County 2005 Pali to Puamana Parkway Master Plan, which examined possible realignments of Honoapiilani Highway between Ukumehame and Launiupoko. Early scoping meetings and exchanges conducted in the first half of 2022 with Native Hawaiian descendants of Olowalu, Ukumehame, and Lahaina, as well as developers and landowners, and Maui County staff have yielded input critical to refining these alternatives. Adjustments were made with specific consideration for natural resources (water, wetlands, terrain) and the human environment (land use, ownership, cultural and archaeological resources). Build Alternatives 1 through 4 are presented below. The Supplementary NOI Document contains maps and additional information on the alternatives. For portions of alignments that remain within the SLR-XA boundary, the FHWA and HDOT will conduct additional evaluations to determine the depths of inundation at those locations and appropriate design solutions, such as whether the road should be elevated.

The Supplementary NOI Document also describes other alternatives that were previously considered but have not been retained for consideration in the EIS either because they do not meet the preliminary Purpose and Need or they had been eliminated due to technical challenges, such as drilling a tunnel through the pali (cliff) or constructing an ocean causeway.

Build Alternative 1

Build Alternative 1 was adapted from the Maui County Pali to Puamana Parkway 2005 coastal or makai concept. A key element of this alternative is to maximize use of the existing Honoapiilani Highway right-of-way (ROW), particularly through Launiupoko and a portion of Olowalu. The Olowalu section of this Alternative was modified to move the Highway further inland near Kapaiki Place neighborhood on Olowalu Village Road (shown on Figure 1) to avoid cultural resources based on recommendations from the community during early scoping meetings. As the alignment proceeds toward Ukumehame Stream, it stays primarily within County and State-owned properties. At Ukumehame Stream, the alignment returns closer to the existing highway to minimize potential impacts to land uses, which may be considered cultural practices, occurring on a property identified as a Land Commission Award (LCA) at the makai end of Ukumehame Stream. At the Ukumehame Firing Range, this alternative crosses through the SLR-XA, but avoids a sediment basin, which the U.S. Fish and Wildlife Service's National Wetlands Inventory Mapper (NWI) identifies as a potential wetland area, mauka of the existing Honoapiilani Highway. Alternative 1 would avoid approximately 84 percent of the SLR-XA encroachment area on the existing highway. Roughly 0.6 mile (about 3,330 feet) of this alignment would remain inside the SLR-XA.

Build Alternative 2

Build Alternative 2 was adapted from the Maui County Pali to Puamana Parkway 2005 “middle” concept. In Launiupoko, this alignment would remain close to the existing Honoapiilani Highway. As this alignment crosses Olowalu, it would require the acquisition of private property, including a number of LCA lands in Olowalu. However, the Alternative would avoid the Kapaiki Place residential neighborhood. In Ukumehame, this alignment follows a more makai route to maximize use of County and State-owned property like Alternative 1 and stays closer to the existing Honoapiilani Highway, thereby avoiding impacts to the LCA at the makai end of Ukumehame Stream. Unlike Alternative 1, this alignment would not avoid the SLR-XA at Ukumehame Stream, because it seeks to keep as close to the existing Honoapiilani Highway as possible. This alignment would remain in the SLR-XA until it reaches the sediment basin below Ukumehame Firing Range. This sediment basin contains an area identified by the U.S. Fish and Wildlife Service's NWI as a potential wetland area.

Alternative 2 traverses the makai side of the sediment basin roughly following the mauka edge of the SLR-XA. As a result, this alignment does not avoid as much of the SLR-XA as Alternative 1. Alternative 2 would avoid approximately 71 percent of the SLR-XA on the existing highway. Roughly 1.1 miles (about 6,000 feet) of this alignment would remain inside the SLR-XA.

Build Alternative 3

Build Alternative 3 was adapted from the Maui County Pali to Puamana Parkway 2005 “mauka” concept. It is identical to Alternative 2, except in Olowalu where the alignment is further inland or mauka. At Olowalu, adjustments were made to this alignment to avoid affecting properties with permitted building plans that are near to beginning construction and to be more cohesive with the private subdivision's greenway and existing roadway and utility easements. Preliminary engineering investigations and comments from early scoping suggest that the terrain underlying Alternative 3 may be more variable and challenging than Alternative 2. The alignment would also require acquisition of private property and avoid the Kapaiki Place residential neighborhood. Alternative 3 would avoid approximately 71 percent of the SLR-XA on the existing highway, similar to Alternative 2. Roughly 1.1 miles (about 6,000 feet) of this alignment would remain inside the SLR-XA.

Build Alternative 4

Build Alternative 4 was also adapted from the Maui County Pali to Puamana Parkway 2005 mauka concept. The alignment for Alternative 4 was selected to realign the highway as much as possible away from the SLR-XA, without as much consideration for property ownership as other Build Alternatives. The route through Olowalu town that distinguishes this alignment is based on preliminary landowner input provided in 2007. This alignment was further adjusted in 2022 to minimize the creation of remnant parcels by following proposed roads and property boundaries where possible. In doing so, it provides opportunities for multimodal connectivity between the private subdivision's greenway and the realigned highway. In Olowalu, Alternative 4 avoids the Kapaiki Place neighborhood but comes close to the Kipuka Olowalu Cultural Reserve, the site of the Olowalu Petroglyphs. Alternative 4 proposes to span a No Build Archaeological Buffer along Ukumehame Stream with a bridge, to avoid impacts to this archaeological preservation area that was established as part of the Ukumehame Subdivision project, according to a 2005 Final Environmental Assessment.

While other alternatives turn makai at Mopua (a locale at the southeastern end of Olowalu), only Alternative 4 continues mauka to realign the highway as much as possible away from the SLR-XA. It proceeds toward the Ukumehame Firing Range through private property and passes through the sediment basin before connecting back to the existing highway. Alternative 4 would avoid roughly 92 percent of the SLR-XA on the existing highway, avoiding the SLR-XA the most of all Build Alternatives. Roughly 0.3 mile (about 1,600 feet) of this alignment would remain inside the SLR-XA.

No-Build Alternative

In accordance with the Council on Environmental Quality's regulations implementing NEPA (40 CFR part 1502.14(c)), the EIS will retain the No-Build Alternative for detailed study and serve as a benchmark for comparison with the Build Alternatives. The No-Build Alternative reflects future conditions if the proposed project were not constructed. Soft protections such as nature-based solutions, hard protections such as revetments and seawalls, or a combination of protections and elevating the road are short- to mid-term fixes and would be included in the No-Build Alternative due to the current state of the road and chronic impacts from coastal hazards. Future conditions would be based on projections of land use and development that are likely to occur 25 years after the project construction. The EIS will provide a comparison of project impacts based on the planning horizon year 2050.

4. Brief Summary of Anticipated Impacts

Given the scope, scale, and complexity of improving the resiliency of a coastal highway, FHWA and HDOT anticipate that the project will likely have significant impacts to the local environment. Agencies, stakeholders, and the public are invited to comment on the expected impacts to be analyzed in the EIS, as well as avoidance, minimization, and mitigation measures. The EIS will evaluate the potential social, economic, and environmental effects resulting from the implementation of the Build Alternatives and the No-Build Alternative.

Additional areas of investigation for this project will include, but not be limited to, consistency with existing plans and land uses, biological resources, cultural resources, archaeological resources, air quality, noise and vibration impacts, social impacts such as shoreline access, land use (residential displacements and local business impacts), recreational resources, visual impacts, traffic impacts, engineering feasibility, project schedule, and ease of implementation. The most sensitive resources requiring evaluation in the project area are likely to be the following:

• Relocations: The Build Alternatives may require ROW acquisitions in partially-developed agricultural subdivisions and County-owned lands. The FHWA and HDOT will work closely with any impacted stakeholders to avoid full displacement of a home or business.

• Historic Properties: Numerous archaeological, historical, and cultural sites are present in the project study area, including well-known sites such as the Olowalu Petroglyphs and Kipuka Olowalu Cultural Reserve. The EIS will provide a summary discussion of archaeological, historical, and cultural resources. Given the prolific pre-contact settlement in this area, at the request of the native Hawaiian families, the project would avoid LCAs whenever possible to minimize potential impacts to archaeological and cultural resources. Other sensitive resources, and technical reports prepared on these subjects, may be kept confidential and would not be reproduced as part of the public distribution of the EIS.

• Recreational Resources and section 4(f) of the Department of Transportation Act: Depending on the alignment, the Build Alternatives may affect the publicly owned Ukumehame Firing Range, a park property protected by section 4(f) of the Department of Transportation Act. The FHWA and HDOT will continue to coordinate with Maui County Department of Parks and Recreation to avoid, minimize and/or mitigate possible impacts to Ukumehame Firing Range.

• Wetlands and Waters of the U.S.: According to the U.S. Fish and Wildlife Service NWI Wetlands Mapper, small wetlands may exist in the project study area. Further study is needed to delineate any Waters of the U.S including wetlands. Additionally, bridge crossings would be needed to carry the highway over Launiupoko, Olowalu, and Ukumehame Streams, and other small streams in the project corridor. As an overall project approach, bridge structures associated with Build Alternatives would either avoid placement of fill within Waters of the U.S. by spanning the stream or conform to regional conditions for the U.S. Army Corps of Engineers (USACE) Clean Water Act (CWA) section 404 Nationwide Permits. In addition, Build Alternatives may require dredging or filling of jurisdictional wetlands or other Waters of the U.S. which would also require a section 404 permit from USACE.

• Important agricultural lands are present throughout the project study area, including Agricultural Lands of Importance to the State of Hawaii (ALISH) and Federally-defined Prime and Unique agricultural lands. Potential impacts to farmlands would be evaluated according to the Federal Farmland Protection Policy Act (FPPA).

• Environmental Justice (EJ): In accordance with E.O. 12898, FHWA must identify and address disproportionately high and adverse impacts to low-income and minority EJ populations. The Draft EIS will include information on the location of and project effects on EJ populations, such as the communities of Olowalu and Ukumehame, including the neighborhood of Kapaiki Place, to evaluate the potential for adverse effects. Impacts to EJ communities may include ROW acquisition for a new alignment, increases in noise, or other environmental factors. The FHWA and HDOT will work closely with the community to identify and incorporate measures to avoid adverse effects and if possible, reduce impacts to any disproportionately high and adverse effects on EJ Population's health or environment.

It should be noted that avoiding impacts on some resources would require trade-offs with impacts to other resources. For example, while none of the alternatives would fully avoid the SLR-XA, some would do so more than others. Achieving more avoidance of or adaptation within the SLR-XA inundation zone may require more land acquisitions, use of steep and difficult terrain, and/or elevating the roadway. These options would likely increase environmental impacts and overall project costs. Similarly, all alternatives being retained for evaluation in the EIS would affect some LCAs because avoiding most or all LCAs would require a much further mauka route with significant increase to environmental impacts and costs or would result in keeping the highway essentially unchanged in its current alignment.

The FHWA and HDOT will produce a Draft and Final Environmental Impact Statement (Draft EIS and Final EIS) and the Record of Decision (ROD). The FHWA and HDOT plan to identify the preferred alternative in the Draft EIS. The Draft EIS will also include measures to avoid, minimize, or mitigate any significant adverse impacts. The NEPA Final EIS and ROD are anticipated to be combined.

Environmental impact analysis will not begin until the public comment period on the NOI has ended. The identification of impacts may be revised due to the consideration of public comments. See the Supplementary NOI Document for a more detailed description of the affected environment. The studies to identify the impacts, as well as the analyses of impacts from the retained alternatives, will be presented in the EIS.

5. Anticipated Permits and Other Authorizations

The FHWA and HDOT anticipate that this Project will require the following Federal, State, and county approvals, permits, and authorizations:

Federal

• USACE CWA section 404

• Department of Transportation Act of 1966, section 4(f) Evaluation

• Federal Emergency Management Agency (FEMA) Floodplain Coordination

• Endangered Species Act, section 7 Consultation

• Farmland Protection Policy Act Farmland Conversion Impact Rating

• Magnuson-Stevens Fishery Conservation and Management Act, Essential Fish Habitat coordination

• National Historic Preservation Act, section 106 consultation

• Clean Air Act, section 309

State of Hawaii

• Hawaii Revised Statutes (HRS) Chapter 343 EIS

• Coastal Zone Management Act (CZMA), Consistency Determination

• CWA section 401, Water Quality Certification

• CWA section 402, National Pollutant Discharge Elimination System (NPDES) Permit

• HRS Chapter 6E-8, historic preservation review

• Stream Channel Alteration Permit (SCAP)

• Conservation District Use Permit

• Americans with Disabilities Act Accessibility Guidelines

• Community Noise Permit/Community Noise Variance

County of Maui

• Special Management Area (SMA) Permit

• Building and Grading permits

6. Schedule for the Decision-Making Process

The project schedule will be established as part of the requirements of the environmental review process under 23 U.S.C. 139 and will comply with 40 CFR part 1501.10(b)(2), which requires environmental review for a 23 U.S.C. 139 “major project” to be completed within two years (from the date of publication of the NOI to the date of issuance of the Record of Decision [ROD]).

The following is the anticipated project schedule:

• Initiate early scoping and hold Town Hall #1—February 2022;

• Develop preliminary project purpose and need—April 2022;

• Publish Notice of Intent (NOI) and Environmental Impact Statement Preparation Notice (EISPN)—November 2022;

• Scoping Meeting (Town Hall #2)—December 2022;

• Analyze the range of project alternatives—November 2023;

• Publish NEPA/HEPA Draft EIS with the preferred alternative identified—November 2023;

• Public Hearing—December 2023;

• Publish combined NEPA Final EIS and ROD/HEPA Final EIS—June 2024;

• HEPA Final EIS Governor Acceptance—July 2024; and

• Complete permits, licenses, or approvals after the ROD.

7. A Description of the Public Scoping Process

The FHWA and HDOT welcome input on the Purpose and Need of the project; alternatives for consideration; items for further study or analysis; and other aspects of the project to ensure that all potential issues are identified. Regulations implementing NEPA, as well as 23 U.S.C. 139, also call for agency and public involvement in the EIS process. To comply with these regulations, FHWA and HDOT developed a Coordination Plan for Public Outreach and Agency Involvement (Coordination Plan). This plan articulates the roles and responsibilities of those agencies invited to participate as Cooperating or Participating Agencies in the project development and review process.

Consistent with the Coordination Plan, FHWA and HDOT held informal community town hall meetings on February 22 and 24, 2022. In addition, FHWA and HDOT will hold public scoping meetings and a public hearing during the NEPA review. The community will be invited to these meetings through a combination of mailout notices and public notices (such as in the newspaper). Community meetings will be held at times and locations convenient to those that work and live in the corridor. These meetings may be conducted virtually, in-person, or a hybrid of both. Language assistance will be provided upon request and through advice of local community leaders.

To assist in determining the scope of issues to be addressed and identifying the potential for significant issues related to the proposed action, the public will have the opportunity to submit written comments at the public scoping meeting and during the 30-day scoping comment period beginning on the date of this NOI publication. A Draft EIS will be developed following the scoping period and made available for public and agency review and comment prior to the Draft EIS Public Hearing.

Information about public meetings is available on the project website. Please also refer to the DATES and Schedule for the Decision-Making Process sections of this Notice.

8. Contact Information

Please direct comments or questions concerning this proposed action and the EIS to the FHWA and HDOT contacts as specified in the FOR FURTHER INFORMATION CONTACT section at the beginning of this notice.

Authority: 42 U.S.C. 4321 et seq.; 23 U.S.C. 139; 23 CFR part 771.

Richelle Takara,
Division Administrator, Federal Highway Administration, Honolulu, Hawaii.

[FR Doc. 2022-25368 Filed 11-21-22; 8:45 am]

BILLING CODE 4910-22-P